Memorandum of August 21, 2000

Delegation of Responsibility Under the Open-Market

Reorganization for the Betterment of International Telecommunications (ORBIT) Act

Memorandum for the Secretary of State

By the authority vested in me by the Constitution and the laws of the United States of America, including section 301 of title 3 of the United States Code, I hereby delegate to you the functions vested in me by section 646 of the ORBIT Act (Public Law 106-180), relating to submission of annual reports to the appropriate congressional committees regarding the privatization of intergovernmental satellite organizations. The authority delegated by the memorandum may be further redelegated within the Department of State.

You are authorized and directed to publish this memorandum in the Federal Register.

wj

THE WHITE HOUSE,

Washington, August 21, 2000.

[FR Doc. 00-22208

Filed 8-28-00; 8:45 am]

Billing code 4710-10-M